FEDERAL DEPOSIT INSURANCE CORPORATION

Agency Information Collection Activities: Submission for OMB Review; Comment Request (3064-0082)

AGENCY: Federal Deposit Insurance Corporation (FDIC).

ACTION: 30-Day notice and request for comment.

SUMMARY: The Federal Deposit Insurance Corporation (FDIC) will submit the following information collection request to the Office of Management and Budget (OMB) for review and approval in accordance with the Paperwork Reduction Act of 1995. The proposed information collection was previously published in the Federal Register on December 7, 2017, allowing for a 60-day comment period.

DATES: Comments are encouraged and will be accepted for an additional 30 days until March 22, 2018.

ADDRESSES: Interested parties are invited to submit written comments to the FDIC by any of the following methods:

• https://www.FDIC.gov/regulations/laws/federal.

• Email: comments@fdic.gov. Please include the name and OMB control number of the relevant information collection in the subject line of the message.

• Mail: Manny Cabeza, Counsel, Room MB-3007, Federal Deposit Insurance Corporation, 550 17th Street NW, Washington, DC 20429.

• Hand Delivery: Comments may be hand-delivered to the guard station at the rear of the 17th Street Building (located on F Street), on business days between 7:00 a.m. and 5:00 p.m.

All comments should refer to the relevant OMB control number. Written comments and/or suggestions can also be directed to the Office of Management and Budget, Office of Information and Regulatory Affairs, attention FDIC Desk Officer, New Executive Office Building, Washington, DC 20503 or sent to OIRA_submissions@omb.eop.gov.

FURTHER INFORMATION CONTACT: If you have additional comments, particularly with respect to the estimated public burden or associated response time, have suggestions, need a copy of any proposed information collection instrument and instructions, or desire any other additional information, please contact Manny Cabeza, Counsel, FDIC Legal Division either by mail at Room MB-3007, Federal Deposit Insurance Corporation, 550 17th Street NW, Washington, DC 20429; by email at mcabeza@fdic.gov; or by telephone at (202) 898-3767.

SUPPLEMENTARY INFORMATION: Written comments and suggestions from the public and affected agencies concerning the proposed collection of information are encouraged. All comments received will become a matter of public record. Your comments should address one or more of the following four points:

—Evaluate whether the proposed collection of information is necessary for the proper performance of the functions of the agency, including whether the information has practical utility;

—Evaluate the accuracy of the agency's estimate of the burden of the proposed information collection, including the validity of the methodology and assumptions used;

—Evaluate whether and if so, how, the quality, utility, and clarity of the information to be collected can be enhanced; and

—Ways to minimize the burden of the information collection on respondents, including through the use of automated collection techniques or other forms of information technology.

Overview of the Information Collection Request

1. Title: Recordkeeping, Disclosure and Reporting Requirements in Connection with Regulation Z.

OMB Number: 3064-0082.

Form Number: None.

Affected Public: State nonmember banks and state savings associations.

General Description of Collection: Consumer Financial Protection Bureau (CFPB) Regulation Z—12 CFR 1026 implements the Truth in Lending Act (15 U.S.C. 1601, et seq.) and certain provisions of the Real Estate Settlement Procedures Act (12 U.S.C. 2601 et seq.). This regulation prescribes uniform methods for computing the cost of credit, the disclosure of credit terms and costs, the resolution of errors and imposes various other recordkeeping, reporting and disclosure requirements. The FDIC has enforcement authority on the requirements of the CFPB's Regulation over the financial institutions it supervises. This information collection captures the recordkeeping, reporting and disclosure burdens of Regulation Z on FDIC-supervised institutions. The information collection is being revised to account for revisions and changes made to Regulation Z by the CFPB since this information collection was last submitted by the FDIC to OMB for clearance.

To arrive at the estimated annual burden the FDIC assessed the number of potential respondents to the information collection by identifying the number of FDIC-supervised institutions who reported activity that would be within the scope of the information collection requirements according to data from the most recent CALL Report. Additionally, the FDIC estimated the frequency of responses to the recordkeeping, reporting, or disclosure requirements by assessing the dollar volume of activity that would be within the scope of the information collection. In some instances the FDIC used information provided by other sources to estimate the magnitude and scope of activity attributable to FDIC-supervised institutions when more immediate information sources did not exist.

Burden Estimate: The total estimated annual burden is 2,395,630 hours (36 hours estimated implementation burden, plus 2,395,594 hours estimated ongoing burden). The burden estimate is detailed on the following tables:

Implementation (One-Time) Burden Estimate
| Obligation to respond/type of burden | Estimated number of respondents ¹ | Estimated average number of credit accounts | Frequency of response | Number of responses | Estimated time per response (minutes) | Total estimated annual burden (hours)
Open-End Credit Products
• Not Home-Secured Open-End Credit Plans
○ Credit and Charge Card Provisions
Timely Settlement of Estate Debts (1026.11(c)(1)) Written Policies and Procedures | Mandatory Recordkeeping | 1 | N/A | 1 | 1 | 480.00 | 8
Ability to Pay (1026.51(a)(ii)) Written Policies and Procedures | Mandatory Recordkeeping | 1 | N/A | 1 | 1 | 480.00 | 8
Mortgage Products (Open and Closed-End)
• Valuation Independence
○ Mandatory Reporting
Implementation of Policies and Procedures (1026.42(g)) | MandatoryRecordkeeping | 1 | N/A | 1 | 0 | 1,200.00 | 20
Total Estimated Implementation Burden |  |  |  |  |  |  | 36
Ongoing Burden Estimate
Open-End Credit Products
• Not Home-Secured Open-End Credit Plans
○ General Disclosure Rules for Not Home-Secured Open-End Credit Plans
Credit and Charge Card Applications and Solicitations (1026.60) | Mandatory Disclosure | 634 | N/A | 1 | 634 | 480.00 | 5,072
Account Opening Disclosures (1026.6(b)) | Mandatory Disclosure | 634 | N/A | 1 | 634 | 720.00 | 7,608
Periodic Statements (1026.7(b)) | Mandatory Disclosure | 634 | N/A | 12 | 7,608 | 480.00 | 60,864
Annual Statement of Billing Rights (1026.9(a)(1)) | Mandatory Disclosure | 317 | N/A | 1 | 317 | 480.00 | 2,536
Alternative Summary Statement of Billing Rights (1026.9(a)(2)) | Voluntary Disclosure | 317 | N/A | 12 | 3,804 | 480.00 | 30,432
Change in Terms Disclosures (1026.9(b) through (h)) | Mandatory Disclosure | 634 | N/A | 1 | 634 | 480.00 | 5,072
○ Credit and Charge Card Provisions
Timely Settlement of Estate Debts (1026.11(c)(2)) | Mandatory Disclosure | 634 | 428 | 1 | 271,352 | 5.00 | 22,613
Ability to Pay (1026.51) | Mandatory Recordkeeping | 634 | N/A | 1 | 634 | 720.00 | 7,608
College Student Credit Annual Report (1026.57(d)) | Mandatory Reporting | 634 | N/A | 1 | 634 | 480.00 | 5,072
Submission of Credit Card Agreements (1026.58(c)) | Mandatory Reporting | 634 | N/A | 4 | 2,536 | 180.00 | 7,608
Internet Posting of Credit Card Agreements (1026.58(d)) | Mandatory Disclosure | 634 | N/A | 4 | 2,536 | 360.00 | 15,216
Individual Credit Card Agreements (1026.58(e)) | Mandatory Disclosure | 634 | 125 | 1 | 79,250 | 15.00 | 19,813
• Home Equity Open-End Credit Plans (HELOC)
○ General Disclosure Rules for HELOCs
Application Disclosures (1026.40) | Mandatory Disclosure | 2,717 | N/A | 1 | 2,717 | 720.00 | 32,604
Account Opening Disclosures (1026.6(a)) | Mandatory Disclosure | 2,717 | N/A | 1 | 2,717 | 720.00 | 32,604
Periodic Statements (1026.7(a)) | Mandatory Disclosure | 2,717 | N/A | 1 | 2,717 | 480.00 | 21,736
Annual Statement of Billing Rights (1026.9(a)(1)) | Mandatory Disclosure | 2,717 | N/A | 1 | 2,717 | 480.00 | 21,736
Alternative Summary Statement of Billing Rights (1026.9(a)(2)) | Voluntary Disclosure | 2,717 | N/A | 1 | 2,717 | 480.00 | 21,736
Change in Terms Disclosures (1026.9(b) through (h)) | Mandatory Disclosure | 2,717 | N/A | 1 | 2,717 | 480.00 | 21,736
Notice to Restrict Credit (1026.9(c)(1)(iii); .40(f)(3)(i) and (vi)) | Mandatory Disclosure | 2,717 | N/A | 1 | 2,717 | 120.00 | 5,434
• All Open-End Credit Plans
Error Resolution (1026.13) | Mandatory Disclosure | 3,624 | 2,963 | 1 | 10,737,912 | 1.0 | 178,965
• Closed-End Credit Products
• General Rules for Closed-End Credit
Other than Real Estate, Home-Secured and Private Education Loans (1026.17 and .18) | Mandatory Disclosure | 1 | N/A | 1 | 1 | 720.00 | 12
• Closed-End Mortgages
○ Application and Consummation
Loan Estimate (1026.19(e); and .37) | Mandatory Disclosure | 3,628 | N/A | 1 | 3,628 | 480.00 | 29,024
Closing Disclosure (1026.19(f); and .38) | Mandatory Disclosure | 3,628 | N/A | 1 | 3,628 | 480.00 | 29,024
Record Retention of Disclosures (1026.19(e), (f); .37; and .38) | Mandatory Recordkeeping | 3,628 | N/A | 1 | 3,628 | 18.00 | 1,088
○ Post-Consummation Disclosures
Interest Rate and Payment Summary (1026.18(s)) | Mandatory Disclosure | 3,628 | N/A | 1 | 3,628 | 2,400.00 | 145,120
No Guarantee to Refinance Statement (1026.18(t)) | Mandatory Disclosure | 3,628 | N/A | 1 | 3,628 | 480.00 | 29,024
ARMs Rate Adjustments with Payment Change Disclosures (1026.20(c)) | Mandatory Disclosure | 3,628 | N/A | 1 | 3,628 | 90.00 | 5,442
Initial Rate Adjustment Disclosure for ARMs (1026.20(d)) | Mandatory Disclosure | 3,628 | N/A | 1 | 3,628 | 120.00 | 7,256
Escrow Cancellation Notice (1026.20(e)) | Mandatory Disclosure | 3,628 | N/A | 1 | 3,628 | 480.00 | 29,024
Periodic Statements (1026.41) | Mandatory Disclosure | 3,628 | N/A | 1 | 3,628 | 480.00 | 29,024
○ Ability to Repay Requirements
Minimum Standards (1026.43(c) through (f)) | Mandatory Recordkeeping | 3,628 | 926 | 1 | 3,359,528 | 15.00 | 839,882
Prepayment Penalties (1026.43(g)) | Mandatory Disclosure | 3,628 | 16 | 1 | 58,048 | 12.00 | 11.610
Mortgage Products (Open and Closed-End)
• Mortgage Servicing Disclosures
○ Payoff Statements
Payoff Statements (1026.36(c)(3)) | Mandatory Disclosure | 3,628 | N/A | 1 | 3,628 | 480.00 | 29,024
○ Notice of Sale or Transfer
Notice of Sale or Transfer (1026.39) | Mandatory Disclosure | 3,628 | N/A | 1 | 3,628 | 480.00 | 29,204
• Valuation Independence
○ Mandatory Reporting
Reporting Appraiser Noncompliance (1026.42(g)) | Mandatory Reporting | 3,628 | 1 | 1 | 3,628 | 10.00 | 605
Reverse and High-Cost Mortgages
• Reverse Mortgages
○ Reverse Mortgage Disclosures
Reverse Mortgage Disclosures (1026.31(c)(2) and .33) | Mandatory Disclosure | 14 | N/A | 1 | 14 | 1,440.00 | 336
• High-Cost Mortgage Loans
○ HOEPA Disclosures and Notice
HOEPA Disclosures and Notice (1026.32(c) | Mandatory Disclosure | 3,628 | N/A | 1 | 3,628 | 14.00 | 847
Private Education Loans
• Initial Disclosures
○ Application and Solicitation Disclosures
Application or Solicitation Disclosures (1026.47(a)) | Mandatory Disclosure | 3,561 | N/A | 1 | 3,561 | 3,600.00 | 213,660
○ Approval Disclosures
Approval Disclosures (1026.47(b)) | Mandatory Disclosure | 3,561 | N/A | 1 | 3,561 | 3,600.00 | 213,660
○ Final Disclosures
Final Disclosures (1026.47(c)) | Mandatory Disclosure | 3,561 | N/A | 1 | 3,561 | 3600.00 | 213,660
Advertising Rules
• All Credit Types
○ Open-End Credit
Open-End Credit (1026.16) | Mandatory Disclosure | 3,624 | 5 | 1 | 18,120 | 20.00 | 6,040
○ Closed-End Credit
Closed-End Credit (1026.24) | Mandatory Disclosure | 3,628 | 5 | 1 | 18,140 | 20.00 | 6,047
Record Retention
• Evidence of Compliance
Regulation Z in General (1026.25) | Mandatory Recordkeeping | 3,652 | N/A | 1 | 3,652 | 18.00 | 1,096
Total Estimated Ongoing Burden |  |  |  |  |  |  | 2,395,594
Total Estimated Annual Burden |  |  |  |  |  |  | 2,395,630
¹ FDIC estimates that all existing FDIC-supervised institutions have implemented the policies and procedures required by Regulation Z and will only face the estimated ongoing (transaction) burdens reflected in the Ongoing Burden Estimate table. The respondent count of 1 is intended as a placeholder for the associated burden estimate to account for any institution(s) that may become subject to the information collection requirements in the future.

Dated at Washington, DC, this 14th day of February 2018.
Federal Deposit Insurance Corporation.
Robert E. Feldman,
Executive Secretary.

[FR Doc. 2018-03426 Filed 2-16-18; 8:45 am]

BILLING CODE 6714-01-P